DEPARTMENT OF ENERGY

Federal Energy Regulatory Commission

[Docket No. CP02-204-000]

Transcontinental Gas Pipe Line Corporation; Notice of Site Visit

June 27, 2002.

On July 9, 2002, the Office of Energy Projects (OEP) staff will conduct a pre-certification site visit of Transcontinental Gas Pipe Line Corporation's (Transco) Trenton Woodbury Expansion Project in Mercer and Burlington Counties, New Jersey. We will examine the proposed project route and potential route variations. Representatives of Transco will be accompanying the OEP staff.

All interested parties may attend. Those planning to attend must provide their own transportation. Those interested in attending should meet at 1:00 p.m. at the following location: Municipal Building, Township of Chesterfield, 300 Bordentown-Chesterfield Road, Trenton, New Jersey 08620.

For additional information, please contact the Commission's Office of External Affairs at 1-866-208-FERC.

Linwood A. Watson, Jr.,
Deputy Secretary.

[FR Doc. 02-16800 Filed 7-3-02; 8:45 am]

BILLING CODE 6717-01-P